OVERSEAS PRIVATE INVESTMENT CORPORATION

Sunshine Act Notice

Cancellation of December 9, 2010 Board Meeting

OPIC's Sunshine Act notice of its Board meeting was published in the Federal Register (Volume 75, Number 210, Page 67145) on November 1, 2010. There being no business to bring before the Board, the meeting has been cancelled.

CONTACT PERSON FOR INFORMATION: Information on the hearing cancellation may be obtained from Connie M. Downs at (202) 336-8438, via facsimile at (202) 218-0136, or via e-mail at Connie.Downs@opic.gov.

Dated: December 3, 2010.
Connie M. Downs,
OPIC Corporate Secretary.

[FR Doc. 2010-30915 Filed 12-3-10; 4:15 pm]

BILLING CODE 3210-01-P